DEPARTMENT OF DEFENSE

Office of the Secretary

[Docket ID DOD-2010-OS-0172]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including the use of automated collection techniques or other forms of information technology.

DATES: Consideration will be given to all comments received by February 25, 2011.

ADDRESSES: You may submit comments, identified by docket number and title, by any of the following methods:

• Federal eRulemaking Portal: http://www.regulations.gov. Follow the instructions for submitting comments.

• Mail: Federal Docket Management System Office, Room 3C843, 1160 Defense Pentagon, Washington, DC 20301-1160.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness), Department of Defense Education Activity, (Human Resources Regional Service Center, Staffing Section), ATTN: Ms. Patti Ross, 4040 North Fairfax Drive, Arlington, VA 22203, or call (703) 588-3915.

Title, Associated Form, and OMB Control Number: Department of Defense Education Activity, Student Teacher Application, DoDEA Form 5308.1-F1, and OMB Number 0704-TBD.

Needs and Uses: This information collection requirement, including the Social Security Number (SSN), will be used by security personnel for National Crime Information Center, State Criminal Histories, and Federal Bureau of Investigation record checks to determine eligibility to serve as a student teacher volunteer. The information will also be used to ensure that the student teacher is not in a pay status as a Department of Defense Education (DoDEA) employee at the time of the student teaching experience.

Affected Public: Individuals or households.

Annual Burden Hours: 50 hours.

Number of Respondents: 150.

Responses per Respondent: 1.

Average Burden per Response: 20 minutes.

Frequency: One-time. Filling out a new application only occurs when a student teacher volunteer changes from one school to another school or if the student teacher volunteer has a 2-year break in school volunteer service.

SUPPLEMENTARY INFORMATION:

Summary of Information Collection

The data collection is necessary to collect information from applicants for student teaching positions from which to determine eligibility for appointment as a student teacher volunteer. Information collection is necessary to determine if a student teacher applicant is suitable for a position involving extensive, frequent, or recurring unsupervised interaction with a student or students under the age of 18. The DoDEA Form 5308.1-F1, “Student Teacher Application,” records the name, SSN, address, phone numbers, and e-mail address of the student teacher applicant.

Dated: December 20, 2010.
Morgan F. Park,
Alternate OSD Federal Register Liaison Officer, Department of Defense.

[FR Doc. 2010-32390 Filed 12-23-10; 8:45 am]

BILLING CODE 5001-06-P